DEPARTMENT OF TRANSPORTATION

Federal Aviation Administration

Government/Industry Aeronautical Charting Forum Meeting

AGENCY: Federal Aviation Administration (FAA), DOT.

ACTION: Notice of public meeting.

SUMMARY: This notice announces a public meeting of the Federal Aviation Administration's Government/Industry Aeronautical Charting Forum to discuss informational content and design of aeronautical charts.

DATES: The meeting will be held from April 29, 2002 to May 2, 2002 from 9 a.m. to 4:30 p.m.

ADDRESSES: The meeting will be held at the National Aeronautical Charting Office, Silver Spring Metro Center, Building 4, 1305 East-West Highway, Silver Spring, Maryland 20910.

FOR FURTHER INFORMATION CONTACT: Richard V. Powell, FAA, Air Traffic Airspace Management, ATA-100, 800 Independence Avenue, SW., Washington, DC 20591; telephone: (202) 267-8790, fax: (202) 493-4266.

SUPPLEMENTARY INFORMATION: Pursuant to § 10(a)(2) of the Federal Advisory Committee Act (Pub. L. 92-463; 5 U.S.C. App. II), notice is hereby given of a meeting of the Government/Industry Aeronautical Charting Forum to be held from April 29, 2002 to May 2, 2002, from 9 a.m. to 4:30 p.m. at the National Aeronautical Charting Office, Silver Spring Metro Center, Building 4, 1305 East-West Highway, Silver Spring, Maryland 20910. The agenda will include:

1. Opening Remarks.

2. Committee Administration.

3. Old Business—Review minutes of last forum 01-02.

4. Aeronautical Charting Forum working groups reports, project reports.

5. Status of outstanding charting topics.

6. New charting topics.

7. Presentations.

8. Closing remarks.

9. Discussion of future meeting dates, locations, activities and plans.

10. Adjourn

Attendance is open to the interested public, but will be limited to the space available.

The public must make arrangements by April 3, 2002, to present oral statements at the meeting. The public may present written statements to the committee at any time by providing a copy to the person listed in the FOR FURTHER INFORMATION CONTACT section. Public statements will only be considered if time permits.

Issued in Washington, DC, on March 14, 2002.
Richard V. Powell,
Chair, Government/Industry, Aeronautical Charting Forum.

[FR Doc. 02-6652 Filed 3-19-02; 8:45 am]

BILLING CODE 4910-13-M